DEPARTMENT OF COMMERCE

International Trade Administration

[A-552-801]

Certain Frozen Fish Fillets from the Socialist Republic of Vietnam: Initiation of New Shipper Reviews

AGENCY: Import Administration, International Trade Administration, Department of Commerce.

EFFECTIVE DATE: October 1, 2008.

SUMMARY: The Department of Commerce (the “Department”) has determined that two requests for new shipper reviews of the antidumping duty order on certain frozen fish fillets from the Socialist Republic of Vietnam, received on August 8, 2008, and August 26, 2008, meet the statutory and regulatory requirements for initiation. The period of review (“POR”) of these two new shipper reviews is August 1, 2007, through July 31, 2008.

FOR FURTHER INFORMATION CONTACT: Alexis Polovina (SAMEFICO) or Matt Renkey (Cadovimex II) AD/CVD Operations, Office 9, Import Administration, International Trade Administration, U.S. Department of Commerce, 14th Street and Constitution Avenue, NW, Washington, DC 20230; telephone: (202) 482-3927 and (202) 482-2312, respectively.

SUPPLEMENTARY INFORMATION:

Background

The notice announcing the antidumping duty order on certain frozen fish fillets from Vietnam was published in the Federal Register on August 12, 2003. See Notice of Antidumping Duty Order: Certain Frozen Fish Fillets from the Socialist Republic of Vietnam, 68 FR 47909 (August 12, 2003). On August 8, 2008, and August 26, 2008, we received timely requests for new shipper reviews from Saigon-Mekong Fishery Co., Ltd. (“SAMEFICO”) and Cadovimex II Seafood Import-Export and Processing Joint Stock Company (“Cadovimex II”) in accordance with 19 CFR 351.214(c) and 351.214(d)(2). SAMEFICO and Cadovimex II have certified that they are both the producers and exporters of the subject merchandise upon which the requests for the new shipper reviews are based.

Initiation of New Shipper Reviews

Pursuant to section 751(a)(2)(B)(i)(I) of the Tariff Act of 1930, as amended (“the Act”), and 19 CFR 351.214(b)(2), SAMEFICO and Cadovimex II certified that they did not export certain frozen fish fillets to the United States during the period of investigation (“POI”). Pursuant to section 751(a)(2)(B)(i)(II) of the Act and 19 CFR 351.214(b)(2)(iii)(A), SAMEFICO and Cadovimex II certified that, since the initiation of the investigation, they have never been affiliated with any exporter or producer who exported certain frozen fish fillets to the United States during the POI, including those not individually examined during the investigation. As required by 19 CFR 351.214(b)(2)(iii)(B), SAMEFICO and Cadovimex II have also certified that their export activities are not controlled by the central government of the Socialist Republic of Vietnam.

In addition to the certifications described above, the exporters submitted documentation establishing the following: (1) the date on which they first shipped certain frozen fish fillets for export to the United States and the date on which the certain frozen fish fillets first entered, or withdrawn from warehouse, for consumption; (2) the volume of their first shipments; and (3) the date of their first sales to an unaffiliated customer in the United States.

Pursuant to section 751(a)(2)(B) of the Act and 19 CFR 351.214(d)(1), we are initiating these two new shipper reviews for shipments of certain frozen fish fillets from the Socialist Republic of Vietnam produced and exported by SAMEFICO and Cadovimex II.

We intend to issue preliminary results of these reviews no later than 180 days from the date of initiation, and final results of these reviews no later than 270 days from the date of initiation. See section 751(a)(2)(B)(iv) of the Act.

On August 17, 2006, the Pension Protection Act of 2006 (“H.R. 4”) was signed into law. Section 1632 of H.R. 4 temporarily suspends the authority of the Department to instruct U.S. Customs and Border Protection to collect a bond or other security in lieu of a cash deposit in new shipper reviews during the period April 1, 2006, through June 30, 2009. Therefore, the posting of a bond or other security under section 751(a)(2)(B)(iii) of the Act in lieu of a cash deposit is not available in this case. Importers of certain frozen fish fillets produced and exported by SAMEFICO and Cadovimex II must continue to post a cash deposit of estimated antidumping duties on each entry of subject merchandise at the current Vietnam-wide rate of 63.88 percent.

Interested parties requiring access to proprietary information in these new shipper reviews should submit applications for disclosure under administrative protective order in accordance with 19 CFR 351.305 and 351.306. This initiation and notice are in accordance with section 751(a)(2)(B) of the Act and 19 CFR 351.214 and 351.221(c)(1)(i).

Dated: September 25, 2008.
Stephen J. Claeys,
Deputy Assistant Secretary for Import Administration.

[FR Doc. E8-23150 Filed 9-30-08; 8:45 am]

BILLING CODE 3510-DS-S